DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: The Organ Procurement and Transplantation Network (OMB No. 0915-0286)—Extension

The Organ Procurement and Transplantation Network (OPTN) necessitates certain record keeping and reporting requirements in order to perform the functions related to organ transplantation under contract to HHS. OMB requires review and approval of record keeping and reporting requirements associated with the final rule governing the operation of the OPTN (42 CFR part 121) related to Secretarial review and appeals. There are record keeping and reporting requirements associated with the process for filing appeals in the case where applicants are rejected for membership or designation in the OPTN. To date, no appeals have been filed. The burden requirements for this process are minimal. The estimate of burden for this process consists of preparing a letter requesting reconsideration and compiling supporting documentation.

The estimated annual burden is as follows:

Section of final rule | Number of respondents | Responses per respondent | Total responses | Hours per response | Total burden hours
42 CFR 121.3(c)(4) Appeal for OPTN membership | 2 | 1 | 2 | 3 | 6
42 CFR 121.9(d) Appeal for designation | 2 | 1 | 2 | 6 | 12
Total | 4 |  | 4 |  | 18

Written comments and recommendations concerning the proposed information collection should be sent within 30 days of this notice to: Karen Matsuoka, Human Resources and Housing Branch, Office of Management and Budget, New Executive Office Building, Room 10235, Washington, DC 20503.

Dated: May 11, 2007.
Caroline Lewis,
Associate Administrator for Management.

[FR Doc. E7-9546 Filed 5-17-07; 8:45 am]

BILLING CODE 4165-15-P